DEPARTMENT OF DEFENSE

Office of the Secretary

[Docket ID DoD-2013-OS-0212]

Privacy Act of 1974; System of Records

AGENCY: National Geospatial-Intelligence Agency, DoD.

ACTION: Notice to alter a System of Records.

SUMMARY: The National Geospatial-Intelligence Agency is altering an existing system of records in its inventory of record systems subject to the Privacy Act of 1974, as amended. The blanket (k)(1) and (k)(2) exemptions apply to this systems of records to accurately describe the basis for exempting disclosure of classified information that is or may be contained in the records.

DATES: This proposed action will be effective on December 20, 2013 unless comments are received which result in a contrary determination. Comments will be accepted on or before December 19, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Human Development Directorate, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Office Web site at http://dpclo.defense.gov/privacy/SORNs/component/ngia/index.html.

The proposed system report, as required by 5 U.S.C. 552a(r) of the Privacy Act of 1974, as amended, was submitted on July 29, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 12, 2013.
Aaron Siegel,
Alternate OSD Federal Register Liaison Officer, Department of Defense.

NGA-003

System name:

National Geospatial-Intelligence Agency Enterprise Workforce System (May 24, 2013, 78 FR 31526)

Changes:

* * * * *

System manager(s) and address:

Delete entry and replace with “Human Development Directorate, National Geospatial-Intelligence Agency, 7500 GEOINT Drive, Springfield, VA 22150.”

* * * * *

Exemptions claimed for the system:

Delete entry and replace with “Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

An exemption rule for this system has been promulgated in accordance with requirements of 5 U.S.C. 552a(b)(1), (2), and (3), (c) and (e) published in 32 CFR part 320. For additional information, contact the system manager.”

[FR Doc. 2013-27463 Filed 11-18-13; 8:45 am]

BILLING CODE 5001-06-P